ENVIRONMENTAL PROTECTION AGENCY

[ER-FRL-9001-7]

Environmental Impacts Statements; Notice of Availability

AGENCY: Office of Federal Activities, General Information (202) 564-7146 or http://www.epa.gov/compliance/nepa/.

Weekly receipt of Environmental Impact Statements.

Filed 02/13/2012 Through 02/17/2012.

Pursuant to 40 CFR 1506.9.

Notices

Section 309(a) of the Clean Air Act requires that EPA make public its comments on EISs issued by other Federal agencies. EPA's comment letters on EISs are available at: http://www.epa.gov/compliance/nepa/eisdata.html.

EIS No. 20120037, Final EIS, NPS, CA, Extension of F-Line Streetcar Service to Fort Mason Center Project, To Provide High-Quality Rail Transit that Improves Transportation Access and Mobility, Golden Gate National Recreation Area, San Francisco Maritime National Historical Park, CA, Review Period Ends: 03/26/2012, Contact: Steve Ortega 415-561-2841.

EIS No. 20120038, Final EIS, USFS, SD, Steamboat Project, Proposes to Implement Multiple Resource Management Actions, Northern Hills Ranger District, Black Hills National Forest, Lawrence, Meade and Pennington Counties, SD, Review Period Ends: 03/26/2012, Contact: Chris Stores 605-642-4622.

EIS No. 20120039, Draft EIS, USFS, WA, South George Vegetation and Fuels Management Project, To Improve Forest Health and Resilience to Fire, Insects and Disease in Upland Forests, Pomerory Ranger District, Umatilla National Forest, Asotin and Garfield Counties, WA, Comment Period Ends: 04/09/2012, Contact: Dan Castillo 509-843-1891.

EIS No. 20120040, Final Supplement, FHWA, TN, Kirby Parkway Project, Construction from Macon Road to Walnut Grove Road, US Army COE Section 401 and 404 Permits, Shelby County, TN, Review Period Ends: 03/26/2012, Contact: Charles J. O'Neill 615-781-5770.

EIS No. 20120041, Final EIS, USFS, MO, Integrated Non-Native Plant Control Project, Proposes a Forest-Wide Integrated Management Strategy to Control the Spread of Non-Native Invasive Plant Species (NNIPS), Mark Twain National Forest in Portions of Barry, Bellinger, Boone, Butler, Callaway, Carter, Christian, Crawford, Dent, Douglas, Howell, Iron, Laclede, Madison, Oregon, Ozark, Phelps, Pulaski, Reynolds, Ripley, Shannon, Ste. Genevieve, St. Francois, Stone, Taney, Texas, Washington, Wayne, and Wright Counties, MO, Review Period Ends: 04/09/2012, Contact: Brian Davidson (573) 341-7414.

EIS No. 20120042, Final EIS, USFS, UT, South Unit Oil and Gas Development Project, Master Development Plan, Implementation, Duchesne/Roosevelt Ranger District, Ashley National Forest, Duchesne County, UT, Review Period Ends: 04/09/2012, Contact: David Herron 435-781-5218.

Amended Notices

EIS No. 20050514, Final EIS, NIH, ME, National Emerging Infectious Diseases Laboratories, Construction of National Biocontainment Laboratory, BioSquare Research Park, Boston University Medical Center Campus, Boston, MA, Review Period Ends: 05/01/2012, Contact: Kelly Fennington 301-496-9838.

In support of this Final EIS, NIH is publishing a Draft Supplementary Risk Assessment for the Boston University National Emerging Infectious Diseases Laboratories (NEIDL). Comments on the risk assessment are due to NIH on 05/01/2012; For more information, please visit http://nihblueribbonpanel-bumc-neidl.od.nih.gov/default.asp.

Dated: February 21, 2012.
Aimee Hessert,
Deputy Director, NEPA Compliance Division, Office of Federal Activities.

[FR Doc. 2012-4331 Filed 2-23-12; 8:45 am]

BILLING CODE 6560-50-P